DEPARTMENT OF JUSTICE

Antitrust Division

Notice Pursuant to the National Cooperative Research and Production Act of 1993—Joint Research and Development Program for the Advancement of in Situ Bioremediation Technologies

Notice is hereby given that, on March 11, 2005, pursuant to Section 6(a) of the National Cooperative Research and Production Act of 1993, 15 U.S.C. 4301 et seq. (“the Act”), Joint Research and Development Program for the Advancement of In Situ Bioremediation Technologies (the “Program”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of parties to the Program are: E.I. du Pont de Nemours and company, Wilmington, DE; General Electric Company, Schenectady, NY; GeoSyntec Consultants Inc., Boca Raton, FL; ICI Chemicals and Polymers, Runcorn, United Kingdom; Shell Research Ltd., London, United Kingdom; Terra Systems, Inc., Wilmington, DE; Golder Associates, Atlanta, GA; Environmental Simulations International Ltd., Shrewsbury, United Kingdom; Acetate Products Limited, Derby, United Kingdom; W.S. Atkins Consultants Ltd., Epsom, United Kingdom; and Scientifics Ltd., Derby, United Kingdom. These parties collectively are the Bioremediation Consortium. Additional parties to the Program are: University of Edinburgh, Edinburgh, Scotland, United Kingdom; University of Sheffield, Sheffield, United Kingdom; and The Natural Environmental Research Council, Nottingham, United Kingdom. The general areas of the Program's planned activities are as follows: The Bioremediation Consortium's goals include sharing existing research regarding the techniques of bioremediation for the remediation of chlorinated solvent contaminants in soil or ground water; working collectively to demonstrate the treatment systems in the field of hazardous waste sites; and ultimately advancing the technologies to the point of public and regulatory acceptability. Additional goals of the Program include having one or more members of the Bioremediation Consortium enter into a Cooperative Research and Development Agreement with the U.S. Environmental Protection Agency, and having the Bioremeditation Consortium enter into a LINK Collaboration Agreement with the additional parties to the Program and the British Geological Survey.

Dorothy B. Fountain,
Deputy Director of Operations, Antitrust Division.

[FR Doc. 05-7747 Filed 4-18-05; 8:45 am]

BILLING CODE 4410-1-M